ENVIRONMENTAL PROTECTION AGENCY

[FRL-9953-67-OA]

Notification of a Public Meeting of the Clean Air Scientific Advisory Committee (CASAC) Oxides of Nitrogen Primary NAAQS Review Panel

AGENCY: Environmental Protection Agency (EPA).

ACTION: Notice.

SUMMARY: The EPA Science Advisory Board (SAB) Staff Office announces a public meeting of the Clean Air Scientific Advisory Committee (CASAC) Oxides of Nitrogen Primary National Ambient Air Quality Standards (NAAQS) Review Panel to peer review EPA's Policy Assessment for the Review of the Primary National Ambient Air Quality Standards for Nitrogen Dioxide (External Review Draft—September 2016).

DATES: The CASAC Oxides of Nitrogen Primary NAAQS Review Panel meeting will be on Wednesday, November 9, 2016 from 9:00 a.m. to 5:00 p.m. (Eastern Time) and on Thursday, November 10, 2016 from 8:30 a.m. to 12:30 p.m. (Eastern Time).

LOCATION: The public meeting will be held at the Embassy Suites by Hilton Alexandria Old Town, 1900 Diagonal Road, Alexandria, Virginia 22314.

FOR FURTHER INFORMATION CONTACT: Any member of the public wishing to obtain information concerning the public meeting may contact Mr. Aaron Yeow, Designated Federal Officer (DFO), EPA Science Advisory Board Staff Office (1400R), U.S. Environmental Protection Agency, 1200 Pennsylvania Avenue NW., Washington, DC 20460; by telephone at (202) 564-2050 or via email at yeow.aaron@epa.gov. General information about the CASAC, as well as any updates concerning the meeting announced in this notice, may be found on the CASAC Web site at http://www.epa.gov/casac.

SUPPLEMENTARY INFORMATION: The CASAC was established pursuant to the Clean Air Act (CAA) Amendments of 1977, codified at 42 U.S.C. 7409(d)(2), to review air quality criteria and NAAQS and recommend any new NAAQS and revisions of existing criteria and NAAQS as may be appropriate. The CASAC shall also provide advice, information, and recommendations to the Administrator on the scientific and technical aspects of issues related to the criteria for air quality standards, research related to air quality, sources of air pollution, and of adverse effects which may result from various strategies to attain and maintain air quality standards. The CASAC is a Federal Advisory Committee chartered under the Federal Advisory Committee Act (FACA), 5 U.S.C., App. 2. Section 109(d)(1) of the CAA requires that the Agency periodically review and revise, as appropriate, the air quality criteria and the NAAQS for the six “criteria” air pollutants, including oxides of nitrogen. EPA is currently reviewing the primary (health-based) NAAQS for nitrogen dioxide (NO2) as an indicator for health effects caused by the presence of oxides of nitrogen in the ambient air.

Pursuant to FACA and EPA policy, notice is hereby given that the CASAC Oxides of Nitrogen Primary NAAQS Review Panel will hold a public meeting to peer review EPA's Policy Assessment for the Review of the Primary National Ambient Air Quality Standards for Nitrogen Dioxide (External Review Draft—September 2016). The CASAC Oxides of Nitrogen Primary NAAQS Review Panel and the CASAC will comply with the provisions of FACA and all appropriate SAB Staff Office procedural policies.

Technical Contacts: Any technical questions concerning the Policy Assessment for the Review of the Primary National Ambient Air Quality Standards for Nitrogen Dioxide (External Review Draft—September 2016) should be directed to Dr. Jennifer Nichols (nichols.jennifer@epa.gov), EPA Office of Air and Radiation.

Availability of Meeting Materials: Prior to the meeting, the review documents, agenda and other materials will be accessible on the CASAC Web site at http://www.epa.gov/casac/.

Procedures for Providing Public Input: Public comment for consideration by EPA's federal advisory committees and panels has a different purpose from public comment provided to EPA program offices. Therefore, the process for submitting comments to a federal advisory committee is different from the process used to submit comments to an EPA program office.

Federal advisory committees and panels, including scientific advisory committees, provide independent advice to EPA. Members of the public can submit relevant comments on the topic of this advisory activity, including the charge to the panel and the EPA review documents, and/or the group conducting the activity, for the CASAC to consider during the advisory process. Input from the public to the CASAC will have the most impact if it provides specific scientific or technical information or analysis for CASAC panels to consider or if it relates to the clarity or accuracy of the technical information. Members of the public wishing to provide comment should contact the DFO directly.

Oral Statements: In general, individuals or groups requesting an oral presentation at a public meeting will be limited to five minutes. Each person making an oral statement should consider providing written comments as well as their oral statement so that the points presented orally can be expanded upon in writing. Interested parties should contact Mr. Aaron Yeow, DFO, in writing (preferably via email) at the contact information noted above by November 2, 2016, to be placed on the list of public speakers. Written Statements: Written statements will be accepted throughout the advisory process; however, for timely consideration by Panel members, statements should be supplied to the DFO (preferably via email) at the contact information noted above by November 2, 2016. It is the SAB Staff Office general policy to post written comments on the Web page for the advisory meeting or teleconference. Submitters are requested to provide an unsigned version of each document because the SAB Staff Office does not publish documents with signatures on its Web sites. Members of the public should be aware that their personal contact information, if included in any written comments, may be posted to the CASAC Web site. Copyrighted material will not be posted without explicit permission of the copyright holder.

Accessibility: For information on access or services for individuals with disabilities, please contact Mr. Aaron Yeow at the contact information provided above. To request accommodation of a disability, please contact Mr. Yeow preferably at least ten days prior to each meeting to give EPA as much time as possible to process your request.

Dated: September 28, 2016.
Khanna Johnston,
Acting Deputy Director, EPA Science Advisory Staff Office.

[FR Doc. 2016-23974 Filed 10-3-16; 8:45 am]

BILLING CODE 6560-50-P